FEDERAL COMMUNICATIONS COMMISSION

[Report No. 2673]

Application for Review of Action in Rulemaking Proceeding

September 30, 2004.

Application for Review has been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc., (BCPI) (1-800-378-3160). Oppositions to this petition must be filed by October 25, 2004. See § 1.4(b)(1) of the Commission's rules (47 CFR 1.4 (b)(1)). Replies to an opposition must be filed within 10 days after the time for filing oppositions have expired.

Subject: Amendment of the TV Table of Allotments, TV Broadcast Stations, Table of Allotments, Digital Television Broadcast Stations (Campbellsville and Bardstown, Kentucky) (MM Docket No. 01-148, RM-10141).

Number of Petitions Filed: 1.

Marlene H. Dortch,
Secretary.

[FR Doc. 04-22750 Filed 10-8-04; 8:45 am]

BILLING CODE 6712-01-M